DEPARTMENT OF COMMERCE

National Oceanic and Atmospheric Administration

[I.D. 062804A]

Fisheries of the South Atlantic; Southeastern Data, Assessment, and Review (SEDAR) South Atlantic Deepwater Snapper/Grouper Species; Tilefish and Snowy Grouper

AGENCY: National Marine Fisheries Service (NMFS), National Oceanic and Atmospheric Administration (NOAA), Commerce.

ACTION: Notice of a SEDAR Workshop for South Atlantic Snapper/Grouper Species.

SUMMARY: The SEDAR process for the South Atlantic Snapper/Grouper Species consists of a series of three workshops: A data workshop, an assessment workshop, and a review workshop. As part of this series, a Review Workshop is being held for tilefish and snowy grouper.

DATES: The SEDAR Review Workshop for tilefish and snowy grouperwill take place July 26-30, 2004. The workshop will be held July 26, 2004, from 2 p.m. to 5:30 p.m., July 27-29, 2004, from 8:30 a.m. to 5:30 p.m., and July 30, 2004, from 8:30 a.m. to 1 p.m.

ADDRESSES: The Review Workshop will be held at the Holiday Inn Center City, 230 North College Street, Charlotte, NC 28202; telephone: (704) 335-5400.

Council address: South Atlantic Fishery Management Council, One Southpark Circle, Suite 306, Charleston, SC 29407.

FOR FURTHER INFORMATION CONTACT: John Carmichael, SEDAR Coordinator; telephone: (843) 571-4366 or toll free 866/SAFMC-10; fax: (843) 769-4520.

SUPPLEMENTARY INFORMATION: The Gulf of Mexico, South Atlantic, and Caribbean Fishery Management Councils, in conjunction with NOAA Fisheries and the Atlantic and Gulf States Marine Fisheries Commissions, have implemented the SEDAR process, a multi-step method for determining the status of fish stocks in the Southeast Region. SEDAR includes three workshops: (1) Data workshop, (2) assessment workshop, and (3) review workshop. The product of the data workshop and the assessment workshop is a stock assessment report, which describes the fisheries, evaluates the status of the stock, estimates biological benchmarks, projects future population conditions, and recommends research and monitoring needs. The assessment report is independently peer reviewed at the review workshop. The products of the review workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, international experts, and staff of Regional Councils, Interstate Commissions, and state and Federal agencies.

The review workshop is an independent peer review of the assessment developed during the data and assessment workshops. Workshop Panelists will review the assessment and document their consensus opinions regarding assessment issues in a Consensus Summary Report. Panelists will summarize the assessment results in an Advisory Report.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the South Atlantic Fishery Management Council office (see ADDRESSES) at least 5 business days prior to the workshop.

Dated: June 29, 2004.
Alan D. Risenhoover,
Acting Director, Office of Sustainable Fisheries, National Marine Fisheries Service.

[FR Doc. E4-1471 Filed 7-1-04; 8:45 am]

BILLING CODE 3510-22-S